DEPARTMENT OF HOUSING AND URBAN DEVELOPMENT

24 CFR Part 1000

[Docket No. FR-4938-N-02]

Native American Housing Assistance and Self-Determination Negotiated Rulemaking Committee

AGENCY: Office of the Assistant Secretary for Public and Indian Housing, HUD.

ACTION: Notice of meeting of negotiated rulemaking committee.

SUMMARY: This notice announces a two-day session of the negotiated rulemaking committee that developed HUD's February 25, 2005, proposed rule for public comment to revise the Indian Housing Block Grant (IHBG) program allocation formula. Through the IHBG program, HUD makes assistance available to eligible Indian tribes for affordable housing activities. The public comment period on the proposed rule closed on April 26, 2005. The purpose of the two-day session is to provide the negotiated rulemaking committee members with the opportunity to review and consider responses to the public comments received on the February 25, 2005, proposed rule.

DATES: The session will be held on Tuesday, January 31, 2006, and Wednesday, February 1, 2006. On each day, the session will begin at approximately 8:30 am, and will adjourn at approximately 6 pm.

ADDRESSES: The sessions will take place at the Grand Hyatt Denver hotel, 1750 Welton Street, Denver, Colorado 80202; telephone: (303) 295-1234 (this is not a toll-free number).

FOR FURTHER INFORMATION CONTACT: Rodger J. Boyd, Deputy Assistant Secretary for Native American Programs, Room 4126, Office of Public and Indian Housing, Department of Housing and Urban Development, 451 Seventh Street, SW., Washington, DC 20410-5000, telephone, (202) 401-7914 (this is not a toll-free number). Hearing or speech-impaired individuals may access this number via TTY by calling the toll-free Federal Information Relay Service at 1-800-877-8339.

SUPPLEMENTARY INFORMATION:

I. Background

On February 25, 2005 (70 FR 9490), HUD published a proposed rule for public comment to make several revisions to the Indian Housing Block Grant (IHBG) program allocation formula authorized under section 302 of the Native American Housing Assistance and Self-Determination Act of 1996 (25 U.S.C. 4101 et seq.).

Through the IHBG program, HUD makes assistance available to eligible Indian tribes for affordable housing activities. The amount of assistance made available to each Indian tribe is determined using an allocation formula (IHBG Formula) that was developed jointly by HUD and Indian tribes using the procedures of the Negotiated Rulemaking Act of 1990 (5 U.S.C. 561-570). A regulatory description of the IHBG Formula is located in subpart D of the IHBG program regulations codified at 24 CFR part 1000.

HUD negotiated the February 25, 2005, proposed rule with active tribal participation and using the procedures of the Negotiated Rulemaking Act. The proposed regulatory changes reflect the consensus decisions reached by HUD and the tribal representatives on ways to improve and clarify the current regulations governing the IHBG Formula. Additional details regarding the proposed regulatory revisions are provided in the preamble to the February 25, 2005, proposed rule. The public comment period on the proposed rule closed on April 26, 2005.

This notice announces a two-day session of the negotiated rulemaking committee that developed the February 25, 2005, proposed rule. Since the negotiated rulemaking committee has concluded its negotiations, the session will not involve the re-opening of negotiations on the consensus and nonconsensus items identified in the preamble to the February 25, 2005, proposed rule and thoroughly negotiated during the committee meetings that developed the proposed regulatory changes. Rather, the purpose of the two-day session is to provide the negotiated rulemaking committee members with the opportunity to review and consider responses to the public comments received on the February 25, 2005, proposed rule.

The two-day session will take place as described in the DATES and ADDRESSES section of this document. The session will be open to the public; however, public attendance may be limited to the space available. Members of the public may be allowed to make statements during the meeting to the extent time permits.

Dated: January 9, 2006.
Rodger J. Boyd,
Deputy Assistant Secretary for Native American Programs.

[FR Doc. E6-362 Filed 1-12-06; 8:45 am]

BILLING CODE 4210-33-P